DEPARTMENT OF HEALTH AND HUMAN SERVICES

Administration for Children and Families

Proposed Information Collection Activity; Comment Request

Title: The Evaluation and System Design for the Next Generation of HPOG Career Pathways Programs (HPOG Next Gen).

OMB No.: New Collection.

Description: The Administration for Children and Families (ACF), U.S. Department of Health and Human Services (HHS) is proposing information collection activities as part of the Evaluation and System Design for the Next Generation of Health Profession Opportunity Grants (HPOG) Career Pathways Programs (HPOG Next Gen). The goals of the HPOG Next Gen evaluation are to establish a data system for program management and evaluation and to design a study to assess the effectiveness of the new HPOG programs. The study also is intended to evaluate variation in participant impact that may be attributable to different HPOG program components. The impact study design will include a classic experiment in which eligible applicants for the non-Tribal HPOG program services will be randomly assigned to a treatment group offered participation in HPOG and a control group not offered the opportunity to enroll in HPOG.

Both goals require collecting information from HPOG grantees on a regular basis. The information collection proposed is an internet-based collection of information from HPOG grantees on: (1) Baseline characteristics of both treatment group and control group sample members; (2) treatment group members' program participation and patterns, and participant outputs and outcomes; and (3) program designs and operating characteristics.

The universe of information collection proposed for HPOG Next Gen includes:

1. A performance management system will collect information from all grantees on their programs and participants on a semi-annual basis over the grant period of performance.

2. A brief baseline survey of eligible applicants to non-Tribal HPOG programs.

Respondents: Participant level data to be collected by program staff in the approximately 40 grantee organizations (higher education institutions, workforce investment boards, private training institutions, nonprofit organizations, and tribal entities); individuals enrolled in HPOG interventions; and control group members.

Annual Burden Estimates
Instrument | Total number of respondents | Annual number of respondents | Number of responses per respondent | Average burden hours per response | Annual burden hours
HPOG program performance report | 120 | 40 | 2 | 31.25 | 2,500
A brief baseline survey of eligible applicants to non-Tribal HPOG programs | 31,500 | 10,500 | 1 | .5 | 5,250

Estimated Total Annual Burden Hours: 7,750

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-04404 Filed 3-3-15; 8:45 am]

BILLING CODE 4184-01-P